DEPARTMENT OF ENERGY

Federal Energy Regulatory Commission

[Docket No. IC09-715-000]

Commission Information Collection Activities (FERC-715); Comment Request; Extension

September 9, 2009.

AGENCY: Federal Energy Regulatory Commission.

ACTION: Notice of proposed information collection and request for comments.

SUMMARY: In compliance with the requirements of section 3506(c)(2)(a) of the Paperwork Reduction Act of 1995 (Pub. L. No. 104-13), the Federal Energy Regulatory Commission (Commission or FERC) is soliciting public comment on the specific aspects of the information collection described below.

DATES: Comments in consideration of the collection of information are due November 16, 2009.

ADDRESSES: An example of this collection of information may be obtained from the Commission's Web site (at http://www.ferc.gov/docs-filing/elibrary.asp). Comments may be filed either electronically or in paper format, and should refer to Docket No. IC09-715-000. Documents must be prepared in an acceptable filing format and in compliance with the Federal Energy Regulatory Commission submission guidelines at http://www.ferc.gov/help/submission-guide.asp.

Comments may be filed electronically via the eFiling link on the Commission's Web site at http://www.ferc.gov. First time users will have to establish a user name and password (http://www.ferc.gov/docs-filing/eregistration.asp) before eFiling. The Commission will send an automatic acknowledgement to the sender's e-mail address upon receipt of comments through eFiling.

Commenters filing electronically should not make a paper filing. Commenters that are not able to file electronically must send an original and 14 copies of their comments to: Federal Energy Regulatory Commission, Secretary of the Commission, 888 First Street, NE., Washington, DC 20426.

Users interested in receiving automatic notification of activity in this docket may do so through eSubscription (at http://www.ferc.gov/docs-filing/esubscription.asp). In addition, all comments and FERC issuances may be viewed, printed or downloaded remotely through FERC's Web site using the “eLibrary” link and searching on Docket Number IC09-715. For user assistance, contact FERC Online Support (e-mail at ferconlinesupport@ferc.gov, or call toll-free at (866) 208-3676, or for TTY, contact (202) 502-8659).

FOR FURTHER INFORMATION CONTACT: Ellen Brown may be reached by telephone at (202) 502-8663, by fax at (202) 273-0873, and by e-mail at ellen.brown@ferc.gov.

SUPPLEMENTARY INFORMATION: The FERC-715 (“Annual Transmission Planning and Evaluation Report,” OMB Control No. 1902-0171) is a mandatory filing described at 18 CFR 141.300. The FERC-715 must be submitted by each transmitting utility that operates integrated (that is, non-radial) transmission facilities at or above 100 kilovolts. [An overview and instructions for filing the FERC-715 are posted on the FERC Web site at: http://www.ferc.gov/docs-filing/eforms/form-715/instructions.asp.]

Section 213 (b) of the Federal Power Act (FPA), as amended by the Energy Policy Act of 1992, requires FERC to collect, annually from transmitting utilities, sufficient information about their transmission systems to inform potential transmission customers, state regulatory authorities, and the public, of available transmission capacity and constraints. FERC-715 also supports the Commission's expanded responsibilities under Sections 211, 212, 213(a), 304, 307(a), 309, and 311 of the FPA, as amended, for reviewing reliability issues, market structure relationships, and in rate and other regulatory proceedings.

Action: The Commission is requesting a three-year extension of the current reporting requirements, with no change.

Burden Statement: Public reporting burden for this collection is estimated as follows.

FERC data collection | Number of respondents annually | Number of responses per respondent | Average burden hours per response | Total annual burden hours
| (1) | (2) | (3) | (1) × (2) × (3)
FERC-715 | 183 | 1 | 160 | 29,280

[

Note: These figures may not be exact, due to rounding.

]

The total estimated annual cost burden ¹ to respondents is $1,806,026.90 {[(29,280 hrs.)/(2,080 hrs./yr.)] × ($128,297 per yr.)}.

¹ Employees work an average of 2,080 hours per year, at an estimated cost of $128,297 per year.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology, e.g. permitting electronic submission of responses.

Kimberly D. Bose,
Secretary.

[FR Doc. E9-22230 Filed 9-15-09; 8:45 am]

BILLING CODE 6717-01-P